ENVIRONMENTAL PROTECTION AGENCY

40 CFR Part 147

[EPA-HQ-OW-2012-0186; FRL-9924-93-OW]

State of Washington Underground Injection Control (UIC) Program Revision Approval

AGENCY: Environmental Protection Agency (EPA).

ACTION: Proposed rule.

SUMMARY: The U.S. Environmental Protection Agency (EPA) proposes to approve the State of Washington Underground Injection Control (UIC) Program revisions as required by rule under the Safe Drinking Water Act (SDWA). The Agency determined that the state's revisions are consistent with the provisions of the SDWA and are as stringent as all applicable federal regulations to prevent underground injection activities that endanger underground sources of drinking water. The state revised its UIC Class V Program regulations and transferred oversight authority from the Department of Ecology to the Energy Facility Site Evaluation Council to issue UIC permits at energy facilities. EPA requests public comment on this proposed rule and supporting documentation. In the “Rules and Regulations” section of this Federal Register, the Agency published EPA's approval of the state's program revision as a direct final rule without a prior proposed rule. If the Agency receives no adverse comment, EPA will not take further action on this proposed rule.

DATES: Written comments must be received by May 6, 2015.

ADDRESSES: Submit your comments, identified by Docket ID No. EPA-HQ-OW-2012-0186, by one of the following methods:

• http://www.regulations.gov: Follow the on-line instructions for submitting comments.

• Email: OW-Docket@epa.gov.

• Mail: State of Washington; Underground Injection Control (UIC) Primacy, U.S. Environmental Protection Agency, Mailcode: 2822T, 1200 Pennsylvania Ave. NW., Washington, DC 20460.

• Hand Delivery: Water Docket, EPA Docket Center (EPA/DC) EPA West, Room 3334, 1301 Constitution Ave. NW., Washington, DC. Such deliveries are only accepted during the Docket's normal hours of operation, and special arrangements should be made for deliveries of boxed information.

FOR FURTHER INFORMATION CONTACT: Lisa McWhirter, Drinking Water Protection Division, Office of Ground Water and Drinking Water (4606M), U.S. Environmental Protection Agency, 1200 Pennsylvania Ave. NW., Washington, DC 20460; telephone number: (202) 564-2317; fax number: (202) 564-3754; email address: mcwhirter.lisa@epa.gov or Peter Contreras, Ground Water Unit, U.S. Environmental Protection Agency, Region 10, Suite 900 M/S OCE-082, 1200 Sixth Avenue, Seattle, Washington 98101; telephone number (206) 553-6708; fax number: (206) 553-6984; email address: contreras.peter@epa.gov.

SUPPLEMENTARY INFORMATION:

Why is EPA issuing this proposed rule?

EPA proposes to approve by rule the state's UIC Class V Program revisions and the transfer of oversight authority from the Department of Ecology to the Energy Facility Site Evaluation Council to issue UIC permits at energy facilities, as required under the SDWA to prevent underground injection activities that endanger underground sources of drinking water. Accordingly, the Agency proposes to codify the state's program revisions in the Code of Federal Regulations (CFR) at 40 CFR part 147. The Agency has published a direct final rule in the “Rules and Regulations” section of this Federal Register, approving the state's program revisions, because EPA views the revisions as noncontroversial and anticipates no adverse comment. The Agency provided reasons for the approval and additional supplementary information in the preamble to the direct final rule. If EPA receives no adverse comment, the Agency will not take further action on this proposed rule. If EPA receives adverse comment, the Agency will withdraw the direct final rule and it will not take effect. The EPA would then address all public comments in any subsequent final rule based on this proposed rule. The EPA does not intend to institute a second comment period on this action. Any parties interested in commenting must do so at this time. For further information, please contact the persons in the FOR FURTHER INFORMATION CONTACT section of this document.

Dated: March 30, 2015.
Gina McCarthy,
Administrator.

[FR Doc. 2015-07758 Filed 4-3-15; 8:45 am]

BILLING CODE 6560-50-P